SECURITIES AND EXCHANGE COMMISSION

[Release No. 34-74604; File No. SR-NYSEArca-2015-20]

Self-Regulatory Organizations; NYSE Arca, Inc.; Notice of Filing and Immediate Effectiveness of Proposed Rule Change Amending Its Schedule of Fees and Charges for Exchange Services To Specify That Affiliated Exchange ETP Holders May Request That the Exchange Aggregate Its Eligible Activity With Activity of the ETP Holder's Affiliates for Purposes of Charges or Credits Based on Volume

Correction

In Notice document 2015-07619 beginning on page 18270 in the issue of Friday, April 3, 2015, make the following correction:

On page 18270, in the third column, in the second paragraph from the bottom, the subject heading beginning “Self-Regulatory Organizations” should read as follows:

“Self-Regulatory Organizations; NYSE Arca, Inc.; Notice of Filing and Immediate Effectiveness of Proposed Rule Change Amending Its Schedule of Fees and Charges for Exchange Services to Specify that Affiliated Exchange ETP Holders May Request that the Exchange Aggregate Its Eligible Activity with Activity of the ETP Holder's Affiliates for Purposes of Charges or Credits Based on Volume”

[FR Doc. C1-2015-07619 Filed 4-13-15; 8:45 am]

BILLING CODE 1505-01-D